DEPARTMENT OF COMMERCE

Foreign-Trade Zones Board

(Docket 53-2000)

Proposed Foreign-Trade Zone—Seminole County, Florida Area; Application and Public Hearing

An application has been submitted to the Foreign-Trade Zones (FTZ) Board (the Board) by the Sanford Airport Authority, to establish a general-purpose foreign-trade zone at sites in the Seminole County, Florida area, within the Sanford Customs port of entry. The application was submitted pursuant to the provisions of the FTZ Act, as amended (19 U.S.C. 81a-81u), and the regulations of the Board (15 CFR part 400). It was formally filed on September 5, 2000. The applicant is authorized to make the proposal under Section 288.36., Florida Statutes Annotated (1997).

The proposed zone would consist of sites covering 2,436 acres in the Seminole County area: Site 1 (1,800 acres)—Orlando Sanford Airport/Airport Commerce Park, One Red Cleveland Boulevard at the east end of Lake Mary Boulevard, Sanford; Site 2 (53 acres)—Technology Park, Lake Emma Drive and San Pond Road, Lake Mary; Site 3 (126 acres)—Port of Sanford, on the St. Johns River, Kastner Place and Orange Boulevard, Sanford; Site 4 (33 acres)—Northstar Business Park, 100 Central Park Drive, Sanford; Site 5 (247 acres)—Silver Lake Industrial Park, 1700-2100 Lake Mary Boulevard, Sanford; Site 6 (25 acres)—Sanford Commerce Park, 100 Commerce Way, Sanford; Site 7 (138 acres)—Sanford Central Park, Upsala Road and Coastline Road, Sanford; and, Site 8 (14 acres)—Oviedo Business Park, Aulin Avenue and Kane Street, Oviedo. Site 1 is owned by the City of Sanford and Site 3 is owned by the Seminole County Port Authority and The Briar Corporation. The remainder of the sites involve privately-owned industrial parks.

The application indicates a need for additional foreign-trade zone services in the Seminole County area. Several firms have indicated an interest in using zone procedures for warehousing/distribution of such items as architectural hardware, computer software, electronics, interior fire suppression sprinkler systems and specialized glass products. Specific manufacturing approvals are not being sought at this time. Requests would be made to the Board on a case-by-case basis.

In accordance with the Board's regulations, a member of the FTZ Staff has been designated examiner to investigate the application and report to the Board.

As part of the investigation, the Commerce examiner will hold a public hearing on October 11, 2000, at 9 a.m., Orlando Sanford Airport, Board Room, One Red Cleveland Boulevard, Sanford, Florida 32773.

Public comment on the application is invited from interested parties. Submissions (original and 3 copies) shall be addressed to the Board's Executive Secretary at the address below. The closing period for their receipt is November 13, 2000. Rebuttal comments in response to material submitted during the foregoing period may be submitted during the subsequent 15-day period (to November 27, 2000).

A copy of the application and accompanying exhibits will be available during this time for public inspection at the following locations:

Orlando Sanford Airport, Marketing & Properties Department, One Red Cleveland Blvd., Suite 200, Sanford, FL 32773.

Office of the Executive Secretary, Foreign-Trade Zones Board, Room 4008, U.S. Department of Commerce 14th and Pennsylvania Avenue, NW, Washington, DC 20230.

Dated: September 6, 2000.
Dennis Puccinelli,
Executive Secretary.

[FR Doc. 00-23543 Filed 9-12-00; 8:45 am]

BILLING CODE 3510-DS-U